DEPARTMENT OF TRANSPORTATION

Coast Guard

33 CFR Part 117

[CGD07-02-009]

Drawbridge Operation Regulations: Commercial Boulevard Bridge (SR 870), Atlantic Intracoastal Waterway, Mile 1059.0, Lauderdale-by-the-Sea, Broward County, FL

AGENCY: Coast Guard, DOT.

ACTION: Notice of temporary deviation from regulations, request for comments.

SUMMARY: The Commander, Seventh Coast Guard District, has approved a test deviation from the regulations governing the operation of the Commercial Boulevard (SR 870) bridge at Lauderdale-by-the-Sea across the Atlantic Intracoastal Waterway, mile 1059.0 in Lauderdale-by-the-Sea, Florida. This deviation allows the drawbridge to open on the hour, 20 minutes after the hour, and 40 minutes after the hour from 7 a.m. to 6 p.m. This action is intended to improve the movement of vehicular traffic while not unreasonably interfering with the movement of vessel traffic. Comments on this test deviation are encouraged.

DATES: This rule is effective from April 17, 2002, until July 16, 2002.

ADDRESSES: You may mail comments and related material to Commander (obr), Seventh Coast Guard District, 909 S.E. 1st Avenue, Room 432, Miami, FL 33131. Comments and material received from the public, as well as comments indicated in this preamble as being available in the docket, are part of docket [CGD07-02-009] and are available for inspection or copying at Commander (obr), Seventh Coast Guard District, 909 S.E. 1st Avenue, Room 432, Miami, FL 33131 between 8 a.m. and 4 p.m., Monday through Friday, except Federal holidays.

FOR FURTHER INFORMATION CONTACT: Mr. Barry Dragon, Chief, Operations Section, Seventh Coast Guard District, Bridge Branch at (305) 415-6743.

SUPPLEMENTARY INFORMATION:

Request for Comments

We encourage you to comment on this test schedule by submitting comments and related material. If you do so, please include your name and address, identify the docket number for this notice [CGD07-02-009], indicate the specific section of this document to which each comment applies, and give the reason for each comment. Please submit all comments and related material in an unbound format, no larger than 8½ by 11 inches, suitable for copying. If you would like to know they reached us, please enclose a stamped, self-addressed postcard or envelope. We will consider all comments and material received during the comment period.

Public Meeting

We do not now plan to hold a public meeting. But you may submit a request for a meeting by writing to the Seventh Coast Guard District Bridge Branch at the address under ADDRESSES explaining why one would be beneficial. If we determine that one would aid in the Discussion of the Test Schedule, we will hold one at a time and place announced by a separate notice in the Federal Register.

Discussion of the Test Schedule

The existing regulations of the Commercial Boulevard bridge (SR 870), mile 1059.0, at Lauderdale-by-the-Sea allow the draw to open on signal, except that, from November 1 through May 15 from 8 a.m. to 6 p.m., Monday through Friday, the draw need open only on the hour, quarter-hour, half-hour, and three-quarter-hour, and from 8 a.m. to 6 p.m. on Saturdays, Sundays, and federal holidays, the draw need open only on the hour, 20 minutes after the hour, and 40 minutes after the hour.

The City of Fort Lauderdale requested on January 3, 2002, that the Coast Guard review the existing regulation of the Commercial Boulevard bridge as they believe the existing regulations are not meeting the needs of vehicle and vessel traffic. This test deviation will allow the draw to open only on the hour, 20 minutes after the hour, and 40 minutes after the hour. We will utilize the data collected from this test deviation to determine if new operating regulations need to be created for this bridge to facilitate vehicle and vessel traffic movement.

The District Commander has granted a test deviation from the operating requirements listed in 33 CFR 117.261(ee) to evaluate the effect of this new schedule on vehicle and vessel traffic. Under this deviation, the Commercial Boulevard Bridge need open only on the hour, 20 minutes after the hour, and 40 minutes after the hour from April 17, 2002, until July 16, 2002.

Dated: March 7, 2002.
Greg Shapley,
Chief, Bridge Administration, Seventh Coast Guard District.

[FR Doc. 02-6360 Filed 3-15-02; 8:45 am]

BILLING CODE 4910-15-U